Memorandum of August 31, 2018

Delegation of Authorities Under the Reinforcing Education Accountability in Development Act

Memorandum for the Secretary of State [and] the Administrator of the United States Agency for International Development

By the authority vested in me as President by the Constitution and the laws of the United States of America, including section 301 of title 3, United States Code, I hereby:

(1) delegate to the Secretary of State the functions and authorities vested in the President by sections 4, 6, and 7 of the Reinforcing Education Accountability in Development (READ) Act, (Div. A, Public Law 115-56); and

(2) delegate to the Administrator of the United States Agency for International Development the functions and authorities vested in the President by section 5(c) of the READ Act.

The delegations in this memorandum shall apply to any provisions of any future public laws that are the same or substantially the same as the provisions referenced in this memorandum. The Secretary of State or the Administrator of the United States Agency for International Development, as appropriate, may redelegate the functions delegated by this memorandum to the extent authorized by law.

The Secretary of State is authorized and directed to publish this memorandum in the Federal Register.

THE WHITE HOUSE,

Washington, August 31, 2018

[FR Doc. 2018-20668

Filed 9-19-18; 11:15 am]

Billing code 4710-10-P